FEDERAL MARITIME COMMISSION

Notice of Release of the Federal Maritime Commission's FY 2019 Service Contract Inventory Analysis

AGENCY: Federal Maritime Commission.

ACTION: Notice.

SUMMARY: The Federal Maritime Commission (Commission) is publishing this notice to advise the public of the availability of its FY 2019 Service Contract Inventory Analysis. The FY 2019 Service Contract Inventory Analysis includes Scope, Methodology, Findings, Actions Taken or Planned, and Accountable Officials.

DATES: The inventory is available on the Commission's website as of August 5, 2022.

FOR FURTHER INFORMATION CONTACT: Katona Bryan-Wade, Director, Office of Management Services, 202-523-5900, omsmaritime@fmc.gov.

SUPPLEMENTARY INFORMATION: Acting in compliance with sec. 743 of Division C of the Consolidated Appropriations Act 2010, the Federal Maritime Commission (Commission) is publishing this notice to advise the public of the availability of its FY 2019 Service Contract Inventory Analysis. The FY 2019 Service Contract Inventory Analysis includes Scope, Methodology, Findings, Actions Taken or Planned, Accountable Officials.

Objectives, and Agency Findings

This analysis was developed in accordance with guidance issued by the Office of Management and Budget (OMB), Office of Procurement Policy (OFPP), and in accordance with FAR subpart 4.17—Service Contracts Inventory. The Federal Maritime Commission has posted its FY 2019 Service Contract Inventory Analysis at the following link: https://www.fmc.gov/about-the-fmc/governmentwide-laws-regulations/service-contract-analysis/.

William Cody,
Secretary.

[FR Doc. 2022-18487 Filed 8-26-22; 8:45 am]

BILLING CODE 6730-02-P